DEPARTMENT OF THE INTERIOR

Bureau of Land Management

[MT-070-1990-EX]

Notice of Availability of Draft Environmental Impact Statement for the Graymont Western U.S., Inc. Proposed Mine Expansion, Broadwater County, MT

AGENCY: Bureau of Land Management, Interior.

ACTION: Notice of availability.

SUMMARY: Graymont Western U.S., Inc. submitted a Plan of Operations on February 22, 2006, to expand their Limestone Hills quarry operation on unpatented mining claims on public lands west of Townsend, Montana. In accordance with the National Environmental Policy Act of 1969 (NEPA, 42 U.S.C. 4321, et seq.) and the Federal Land Policy and Management Act of 1976 (FLPMA, 43 U.S.C. 1701, et seq.), a Draft Environmental Impact Statement (DEIS) has been prepared for the Graymont Western U.S., Inc. Proposed Mine Expansion administered by the Bureau of Land Management's (BLM) Butte Field Office and the Montana Department of Environmental Quality (DEQ). Operations on public lands are on mining claims located in accordance with the General Mining Law of 1872, as amended (30 U.S.C. 22, et seq.). The DEIS addresses alternatives associated with Graymont Western U.S., Inc. Proposed Mine Expansion and recommends a preferred Alternative, allowing the expansion.

DATES: The BLM and the DEQ will accept written comments on the Draft EIS for 60 days following the date the Environmental Protection Agency (EPA) publishes its Notice of Availability in the Federal Register. Future meetings or hearings and any other public involvement activities will be announced at least 15 days in advance through public notices, media news releases, and/or mailings

ADDRESSES: The Draft EIS will be available for public review at the following locations: the BLM Butte Field Office, 106 North Parkmont, Butte Montana; the DEQ Office, 1520 East Sixth Avenue, Helena, Montana; the Helena Public Library, 120 South Last Chance Gulch, Helena, Montana; the Townsend Public Library, 201 North Spruce Street, Townsend, Montana; and online at http://www.deq.mt.gov.

You may submit comments by any of the following methods:

E-mail: ghallsten@mt.gov or david_r_williams@blm.gov.

Fax: 406-444-4386 or 406-533-7660.

Send written comments to: Graymont Western U.S., Inc. Proposed Mine Expansion DEIS, Attention: Greg Hallsten, Montana Department of Environmental Quality, Director's Office, PO Box 200901, Helena, MT 59620-0901; or David Williams, Bureau of Land Management, Butte Field Office, 106 North Parkmont, Butte, MT 59701.

FOR FURTHER INFORMATION CONTACT: For further information and/or to request a copy of the document, contact: Greg Hallsten, Montana Department of Environmental Quality, PO Box 200901, Helena, MT 59620-0901; or David Williams, Bureau of Land Management, Butte Field Office, 106 North Parkmont, Butte, MT 59701.

SUPPLEMENTARY INFORMATION: Graymont Western U.S., Inc. submitted a Plan of Operations on February 22, 2006, to the BLM and the DEQ to expand their existing operation, located on unpatented mining claims on public lands west of Townsend, Montana. This proposal is a continuation of mining along a prominent limestone ridge which forms the crest of the “Limestone Hills.” Mining was originally permitted here beginning in 1981 and has continued since then. The principal concern, developed through public meetings and agency review, was potential loss of mule deer and mountain sheep habitat and winter browse vegetation, principally mountain mahogany.

The DEIS evaluates three alternatives: No Action, the Proposed Action, and Alternative A, Modified Pit Backfill, which is the agency preferred alternative. The No Action Alternative would limit mine disturbance to the currently permitted 735 acres of disturbance, and the mine would continue to operate until it reached the permitted limits, estimated at 7 to 12 years. The Proposed Action Alternative would allow for an additional 1,313 acres of disturbance and allow operations to continue for 35 to 50 years. The Modified Pit Backfill Alternative modifies the proposed action to require reclamation at the site to provide for more diverse topography and soils that favor winter browse species, but the Alternative does not change the proposed disturbance acreage or years of future operations.

The Draft EIS and documents related to this EIS, including public comments, will be posted on the DEQ Web site (http://www.deq.mt.gov) and may be published as part of the Final EIS. The public is invited to review and comment on the range and adequacy of the draft alternatives and associated environmental effects. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

Rick M. Hotaling,
Field Manager.

[FR Doc. E8-30076 Filed 12-18-08; 8:45 am]

BILLING CODE 4310-DN-P